FEDERAL COMMUNICATIONS COMMISSION

47 CFR Part 73

[DA 13-905; MB Docket No. 12-53; RM-11658]

Radio Broadcasting Services; Dermott, Arkansas, and Cleveland, Mississippi

AGENCY: Federal Communications Commission.

ACTION: Final rule.

SUMMARY: The Audio Division, at the request of Delta Radio Network, LLC, substitutes FM Channel 224A for 289A at Dermott, Arkansas, and substitutes FM Channel 226C2 for vacant 225C2 at Cleveland, Mississippi, as part of a contingently filed “hybrid” application and rule making petition. The purpose of the proposed channel substitutions is to accommodate the application to upgrade WIBT-FM at Indianola from Channel 288A to Channel 289C2. See FCC File No. BPH-20110913AAK. Channel 224A can be allotted at Dermott with a site restriction of 3.5 km (2.2 miles) southeast of city reference coordinates. The reference coordinates for Channel 224A at Dermott are: 33-30-23 NL and 91-24-19 WL. Channel 226C2 can be allotted at Cleveland, Mississippi, with a site restriction of 25.4 km (15.8 miles) northwest of city reference coordinates. The reference coordinates for Channel 226C2 at Cleveland are: 33-55-25 NL and 90-53-40 WL. See Supplementary Information infra.

DATES: Effective June 10, 2013.

FOR FURTHER INFORMATION CONTACT: Deborah Dupont, Media Bureau, (202) 418-2180.

SUPPLEMENTARY INFORMATION: This is a synopsis of the Commission's Report and Order, MB Docket No. 12-352, adopted April 25, 2013, and released April 26, 2013. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4). The Commission will send a copy of this Report and Order in a report to be sent to Congress and the Government Accountability Office pursuant to the Congressional Review Act, see U.S.C. 801(a)(1)(A).

List of Subjects in 47 CFR part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. In § 73.202(b):

a. The Table of FM Allotments under Arkansas is amended at Dermott by removing Channel 289A and by adding Channel 224A.

b. The Table of FM Allotments under Mississippi is amended at Cleveland by removing Channel 225C2 and by adding Channel 226C2.

[FR Doc. 2013-11123 Filed 5-9-13; 8:45 am]

BILLING CODE 6712-01-P